DEPARTMENT OF ENERGY

Federal Energy Regulatory Commission

Combined Notice of Filings #1

Take notice that the Commission received the following electric corporate filings:

Docket Numbers: EC18-145-000.

Applicants: Choice Energy, LLC.

Description: Amendment to August 29, 2018 Application for Authorization Under Section 203 of the Federal Power Act, et al. of Choice Energy LLC.

Filed Date: 9/20/18.

Accession Number: 20180920-5066.

Comments Due: 5 p.m. ET 10/04/18.

Take notice that the Commission received the following electric rate filings:

Docket Numbers: ER10-2718-031; ER10-2719-031.

Applicants: Cogen Technologies Linden Venture, L.P., East Coast Power Linden Holding, L.L.C.

Description: Notice of Non-Material Change in Status of Cogen Technologies Linden Venture, L.P.

Filed Date: 9/21/18.

Accession Number: 20180921-5085.

Comments Due: 5 p.m. ET 10/12/18.

Docket Numbers: ER18-15-002.

Applicants: Rausch Creek Generation, LLC.

Description: Report Filing: Refund Report to be effective N/A.

Filed Date: 9/21/18.

Accession Number: 20180921-5079.

Comments Due: 5 p.m. ET 10/12/18.

Docket Numbers: ER18-1159-002.

Applicants: Pioneer Transmission, LLC, Midcontinent Independent System Operator, Inc.

Description: Compliance filing: 2018-09-21_Pioneer Attachment O Compliance Filing to be effective 6/1/2018.

Filed Date: 9/21/18.

Accession Number: 20180921-5078.

Comments Due: 5 p.m. ET 10/12/18.

Docket Numbers: ER18-1248-002.

Applicants: Southern California Edison Company.

Description: Compliance filing: SCE Compliance Filing Revised WDAT ER18-1248 to be effective 5/30/2018.

Filed Date: 9/21/18.

Accession Number: 20180921-5163.

Comments Due: 5 p.m. ET 10/12/18.

Docket Numbers: ER18-2110-001.

Applicants: Buckeye Power, Inc., PJM Interconnection, L.L.C.

Description: Tariff Amendment: Amendment to July 31 Filing re NITSA Among PJM and Buckeye Power, Inc. to be effective 10/1/2018.

Filed Date: 9/21/2018.

Accession Number: 20180921-5110.

Comments Due: 5 p.m. ET 10/3/18.

Docket Numbers: ER18-2457-000.

Applicants: ISO New England Inc.

Description: ISO New England Inc. Resource Termination—Clear River Unit 1.

Filed Date: 9/20/18.

Accession Number: 20180920-5149.

Comments Due: 5 p.m. ET 10/11/18.

Docket Numbers: ER18-2458-000.

Applicants: Duke Energy Ohio, Inc., PJM Interconnection, L.L.C.

Description: § 205(d) Rate Filing: Duke submits Amended and Restated Interconnection Agreement, SA No. 3141 to be effective 6/30/2018.

Filed Date: 9/20/18.

Accession Number: 20180920-5156.

Comments Due: 5 p.m. ET 10/11/18.

Docket Numbers: ER18-2459-000.

Applicants: Pacific Gas and Electric Company.

Description: § 205(d) Rate Filing: WAPA Work Performance Agreement for Cottonwood Airport Reconductoring (RS 228) to be effective 9/24/2018.

Filed Date: 9/21/18.

Accession Number: 20180921-5103.

Comments Due: 5 p.m. ET 10/12/18.

Docket Numbers: ER18-2460-000.

Applicants: New York Independent System Operator, Inc.

Description: § 205(d) Rate Filing: 205 filing re: Use of constraint reliability margin values less than 20 MW to be effective 11/21/2018.

Filed Date: 9/21/18.

Accession Number: 20180921-5107.

Comments Due: 5 p.m. ET 10/12/18.

Docket Numbers: ER18-2461-000.

Applicants: Mid-Atlantic Interstate Transmission, LLC, PJM Interconnection, L.L.C.

Description: § 205(d) Rate Filing: MAIT submits five ECSAs, Service Agreement Nos. 5112, 5113, 5116, 5130, and 5131 to be effective 11/21/2018.

Filed Date: 9/21/18.

Accession Number: 20180921-5109.

Comments Due: 5 p.m. ET 10/12/18.

Docket Numbers: ER18-2462-000.

Applicants: Mid-Atlantic Interstate Transmission, LLC, PJM Interconnection, L.L.C.

Description: § 205(d) Rate Filing: MAIT submits five ECSAs, Service Agreement Nos. 5019, 5020, 5021, 5022, and 5023 to be effective 11/21/2018.

Filed Date: 9/21/18.

Accession Number: 20180921-5159.

Comments Due: 5 p.m. ET 10/12/18.

Docket Numbers: ER18-2463-000.

Applicants: Midcontinent Independent System Operator, Inc.

Description: § 205(d) Rate Filing: 2018-09-21_SA 3115 LCM-ELL GIA (C042) to be effective 6/10/2018.

Filed Date: 9/21/18.

Accession Number: 20180921-5186.

Comments Due: 5 p.m. ET 10/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2018.
Kimberly D. Bose,
Secretary.

[FR Doc. 2018-21068 Filed 9-26-18; 8:45 am]

BILLING CODE 6717-01-P